DEPARTMENT OF ENERGY

Federal Energy Regulatory Commission

Combined Notice of Filings #1

Take notice that the Commission received the following electric corporate filings:

Docket Numbers: EC11-96-000.

Applicants: Dartmouth Power Associates Limited Partnership, Camden Plant Holding, LLC, Pedricktown Cogeneration Company LP, Elmwood Park Power LLC, Newark Bay Cogeneration Partnership, L.P, York Generation Company LLC, Bayonne Plant Holding, LLC.

Description: Application for the Authorization for Disposition of Jurisdictional Facilities and Request for Expedited Action of Bayonne Plant Holding, LLC.

Filed Date: 07/18/2011.

Accession Number: 20110718-5161.

Comment Date: 5 p.m. Eastern Time on Monday, August 08, 2011.

Take notice that the Commission received the following exempt wholesale generator filings:

Docket Numbers: EG11-108-000.

Applicants: High Plains Ranch II, LLC.

Description: Notice of Self-Certification of Exempt Wholesale Generator Status of High Plains Ranch II, LLC.

Filed Date: 07/18/2011.

Accession Number: 20110718-5197.

Comment Date: 5 p.m. Eastern Time on Monday, August 08, 2011.

Take notice that the Commission received the following electric rate filings:

Docket Numbers: ER10-2897-002.

Applicants: Krayn Wind LLC.

Description: Krayn Wind LLC submits Non-material Change in Status Notice.

Filed Date: 07/18/2011.

Accession Number: 20110718-5117.

Comment Date: 5 p.m. Eastern Time on Monday, August 08, 2011.

Docket Numbers: ER11-4065-000.

Applicants: PJM Interconnection, LLC.

Description: PJM Interconnection, LLC submits tariff filing per 35.13(a)(2)(iii): PJM Queue No. V4-054; Original Service Agreement No. 2967 to be effective 6/17/2011.

Filed Date: 07/18/2011.

Accession Number: 20110718-5053.

Comment Date: 5 p.m. Eastern Time on Monday, August 08, 2011.

Docket Numbers: ER11-4066-000.

Applicants: PacifiCorp.

Description: PacifiCorp submits tariff filing per 35.15: Termination of Harrison Relay Replacement Agreement to be effective 10/5/2011.

Filed Date: 07/18/2011.

Accession Number: 20110718-5090.

Comment Date: 5 p.m. Eastern Time on Monday, August 08, 2011.

Docket Numbers: ER11-4067-000.

Applicants: Tucson Electric Power Company.

Description: Tucson Electric Power Company submits tariff filing per 35.13(a)(2)(iii): TEP Hourly Firm Filing to be effective 7/19/2011.

Filed Date: 07/18/2011.

Accession Number: 20110718-5092.

Comment Date: 5 p.m. Eastern Time on Monday, August 08, 2011.

Docket Numbers: ER11-4068-000.

Applicants: UNS Electric, Inc.

Description: UNS Electric, Inc. submits tariff filing per 35.13(a)(2)(iii): UNSE Hourly Firm Filing to be effective 7/19/2011.

Filed Date: 07/18/2011.

Accession Number: 20110718-5093.

Comment Date: 5 p.m. Eastern Time on Monday, August 08, 2011.

Docket Numbers: ER11-4069-000.

Applicants: RITELine Illinois, LLC, RITELine Indiana, LLC.

Description: RITELine Illinois, LLC submits tariff filing per 35.1: RITELine Illinois Concurrence to be effective 10/17/2011.

Filed Date: 07/18/2011.

Accession Number: 20110718-5137.

Comment Date: 5 p.m. Eastern Time on Monday, August 08, 2011.

Docket Numbers: ER11-4070-000.

Applicants: RITELine Illinois, LLC, RITELine Indiana, LLC.

Description: RITELine Illinois, LLC submits tariff filing per 35.1: RITELine Indiana FR and Protocols to be effective 10/17/2011.

Filed Date: 07/18/2011.

Accession Number: 20110718-5138.

Comment Date: 5 p.m. Eastern Time on Monday, August 08, 2011.

Docket Numbers: ER11-4071-000.

Applicants: Southwest Power Pool, Inc.

Description: Southwest Power Pool, Inc. submits tariff filing per 35.13(a)(2)(iii): 2151R1 TPW Petersburg, LLC GIA to be effective 6/16/2011.

Filed Date: 07/18/2011.

Accession Number: 20110718-5156.

Comment Date: 5 p.m. Eastern Time on Monday, August 08, 2011.

Docket Numbers: ER11-4072-000.

Applicants: NV Energy, Inc.

Description: NV Energy, Inc. submits tariff filing per 35: Attachment C—Compliance Filing to be effective 4/1/2011.

Filed Date: 07/18/2011.

Accession Number: 20110718-5181.

Comment Date: 5 p.m. Eastern Time on Monday, August 08, 2011.

Docket Numbers: ER11-4073-000.

Applicants: PJM Interconnection, LLC.

Description: PJM Interconnection, LLC submits tariff filing per 35.13(a)(2)(iii): Original Service Agreement Nos. 2962 and 2963 to be effective 6/17/2011.

Filed Date: 07/18/2011.

Accession Number: 20110718-5182.

Comment Date: 5 p.m. Eastern Time on Monday, August 08, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: July 19, 2011.
Nathaniel J. Davis, Sr.,
Deputy Secretary.

[FR Doc. 2011-18696 Filed 7-22-11; 8:45 am]

BILLING CODE 6717-01-P